DEPARTMENT OF COMMERCE

International Trade Administration

[A-533-502, A-549-502, A-489-501]

Certain Welded Carbon Steel Pipes and Tubes From India, Thailand, and Republic of Turkey: Final Results of the Expedited Sunset Review of the Antidumping Duty Orders

AGENCY: Enforcement and Compliance, International Trade Administration, Department of Commerce.

SUMMARY: As a result of these expedited sunset reviews, the U.S. Department of Commerce (Commerce) finds that revocation of the antidumping duty (AD) orders on certain welded carbon steel pipes and tubes (pipe and tube) from India, Thailand, and the Republic of Turkey (Turkey) would likely lead to a continuation or recurrence of dumping at the levels indicated in the “Final Results of Review” section of this notice. The sunset period of review is 2018-2022.

DATES: Applicable May 8, 2023.

FOR FURTHER INFORMATION CONTACT: Richard Roberts, AD/CVD Operations, Office I, Enforcement and Compliance, International Trade Administration, U.S. Department of Commerce, 1401 Constitution Avenue NW, Washington, DC 20230; telephone: (202) 482-3464.

SUPPLEMENTARY INFORMATION:

Background

On January 3, 2023, Commerce published in the Federal Register the notice of initiation of the fourth sunset review of the AD orders on pipe and tube from India, Thailand, and Turkey,¹ pursuant to section 751(c) of the Tariff Act of 1930, as amended (the Act).² On January 17 and 18, 2023, Commerce received notices of intent to participate from domestic interested parties ³ for these Orders in accordance with 19 CFR 351.218(d)(1)(i) within 15 days after the date of publication of the Initiation Notice. The domestic interested parties claimed interested party status under section 771(9)(C) of the Act, as producers in the United States of the domestic like product. On February 2, 2023, the domestic interested parties submitted timely adequate substantive responses to the Initiation Notice for each sunset review within the 30-day period, as specified in 19 CFR 351.218(d)(3)(i).⁴

¹ See Antidumping Duty Order; Certain Welded Carbon Steel Standard Pipes and Tubes from India, 51 FR 17384 (May 12, 1986); Antidumping Duty Order; Circular Welded Carbon Steel Pipes and Tubes from Thailand, 51 FR 8341 (March 11, 1986); and Antidumping Duty Order; Welded Carbon Steel Standard Pipe and Tube Products from Turkey, 51 FR 17784 (May 15, 1986) (collectively, Orders).

² See Initiation of Five-Year (Sunset) Reviews, 88 FR 63 (January 3, 2023) (Initiation Notice).

³ See Nucor's Letters, “Certain Welded Carbon Steel Pipes and Tubes from India: Notice of Intent to Participate in Sunset Review,” dated January 17, 2023; “Certain Welded Carbon Steel Pipes and Tubes from Thailand: Notice of Intent to Participate in Sunset Review” dated January 17, 2023; and “Certain Welded Carbon Steel Pipes and Tubes from Turkey: Notice of Intent to Participate in Sunset Review,” dated January 17, 2023; see also Bull Moose, Maruichi, and Zekelman's Letters, “Fifth Five-Year Review of the Antidumping Duty Order on Certain Welded Carbon Steel Pipes and Tubes from India: Notice of Intent to Participate” dated January 18, 2023; “Fifth Five-Year Review of the Antidumping Duty Order on Certain Welded Carbon Steel Pipes and Tubes from Thailand: Notice of Intent to Participate” dated January 18, 2023; and “Fifth Five-Year Review of the Antidumping Duty Order on Certain Welded Carbon Steel Pipes and Tubes from Turkey: Notice of Intent to Participate,” dated January 18, 2023 (collectively, Notices of Intent to Participate). The domestic interested parties consist of the following members: Nucor Tubular Products Inc. (Nucor), Bull Moose Tube Company (Bull Moose), Maruichi American Corporation (Maruichi), and Zekelman Industries (Zekelman) (collectively, the domestic interested parties).

⁴ See Domestic Interested Parties' Letter, “Substantive Response to Notice of Initiation,” dated February 2, 2023; Domestic Interested Parties' Letter, “Substantive Response to Notice of Initiation,” dated February 2, 2023; and Domestic Interested Parties' Letter, Substantive Response to Notice of Initiation,” dated February 2, 2023 (collectively, Substantive Responses).

On January 25, 2023, Commerce notified the U.S. International Trade Commission that it received notices of intent to participate from the domestic interested parties.⁵ Commerce did not receive substantive responses from respondent interested parties in these sunset reviews. As a result, pursuant to section 751(c)(3)(B) of the Act and 19 CFR 351.218(e)(1)(ii)(C)(2), Commerce conducted expedited, i.e., 120-day sunset reviews of the Orders.

⁵ See Commerce's Letter, “Sunset Reviews for January 2023,” dated January 25, 2023.

Scope of the Orders

The products covered by these Orders are pipe and tube. A full description of the scope of the Orders is contained in the Issues and Decision Memorandum.⁶

⁶ See Memorandum, “Issues and Decision Memorandum for the Final Results of the Expedited Fifth Sunset Reviews of the Antidumping Duty Orders on Certain Welded Carbon Steel Pipes and Tubes from India, Thailand, and the Republic of Turkey,” dated concurrently with, and hereby adopted by, this notice (Issues and Decision Memorandum).

Analysis of Comments Received

All issues raised in these sunset reviews, including the likelihood of continuation or recurrence of dumping and the magnitude of the margins of dumping likely to prevail if the orders are revoked, are addressed in the Issues and Decision Memorandum. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNotices/ListLayout.aspx.

Final Results of Sunset Reviews

Pursuant to sections 751(c)(1) and 752(c)(1) and (3) of the Act, Commerce determines that revocation of the Orders on pipe and tube from India, Thailand, and Turkey would be likely to lead to continuation or recurrence of dumping, and that the magnitude of the margins of dumping likely to prevail would be at margins up to 87.93 percent for India, 15.60 percent for Thailand, and 23.12 percent for Turkey.

Administrative Protective Order

This notice serves as a reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act, and 19 CFR 351.221(c)(5)(ii).

Dated: May 2, 2023.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely To Prevail

VII. Final Results of Expedited Sunset Reviews

VIII. Recommendation

[FR Doc. 2023-09730 Filed 5-5-23; 8:45 am]

BILLING CODE 3510-DS-P